OFFICE OF MANAGEMENT AND BUDGET

Notice; Delegation of Apportionment Authority

AGENCY: Office of Management and Budget, Executive Office of the President.

ACTION: Notice.

SUMMARY: Pursuant to section 204 of the Executive Office of the President Appropriations Act, 2023, the Office of Management and Budget is publishing the current delegation of apportionment authority.

DATES: This delegation became effective on February 11, 2025.

FOR FURTHER INFORMATION CONTACT: Heather V. Walsh. 202-395-3642. MBX.OMB.OGC@omb.eop.gov.

SUPPLEMENTARY INFORMATION:

Delegation of Apportionment Authority

I hereby delegate to the Program Associate Directors the authorities delegated by the President to the Director of the Office of Management and Budget for apportioning funds pursuant to 31 U.S.C. 1513(b).

This delegation supersedes any previous delegation of such authority and will remain in place until revised or revoked. The Program Associate Directors may re-delegate this authority as necessary in writing. This delegation does not limit the authority of the Director to exercise the delegated authority.

Russell T. Vought,
Director, Office of Management and Budget.

[FR Doc. 2025-02720 Filed 2-14-25; 8:45 am]

BILLING CODE 3110-01-P